DEPARTMENT OF AGRICULTURE

Farm Service Agency

Public Meetings of Advisory Committee on Beginning Farmers and Ranchers

AGENCY: Farm Service Agency, USDA.

ACTION: Notice of public meetings.

SUMMARY: In accordance with the Federal Advisory Committee Act, 5 U.S.C. App. II, the Farm Service Agency (FSA) is issuing this notice to advise the public that meetings of the Advisory Committee on Beginning Farmers and Ranchers (Committee) will be held to discuss various beginning farmer issues.

DATES: The public meetings will be held March 24-25, 2004. The first meeting, on March 24, 2004, will start at 8:30 a.m., Eastern Standard Time (EST) and end at 5:30 p.m. EST. The second meeting, on March 25, 2004, will begin at 8 a.m. EST and end by 4 p.m. EST.

ADDRESSES: All meetings will be held at the Grand Hyatt Hotel, 1000 H Street, Washington, DC, telephone (202) 582-1234. Written requests to make oral presentations must be sent to: Mark Falcone, Designated Federal Official for the Advisory Committee on Beginning Farmers and Ranchers, Farm Service Agency, U.S. Department of Agriculture, 1400 Independence Avenue, SW, STOP 0522, Washington, DC 20250-0522; telephone (202) 720-1632; FAX (202) 690-1117; e-mail: mark.falcone@usda.gov.

FOR FURTHER INFORMATION CONTACT: Mark Falcone at (202) 720-1632.

SUPPLEMENTARY INFORMATION: Section 5 of the Agricultural Credit Improvement Act of 1992 (Pub. L. 102-554) required the Secretary of Agriculture (the Secretary) to establish the Committee for the purpose of advising the Secretary on the following:

(1) The development of a program of coordinated financial assistance to qualified beginning farmers and ranchers required by section 309(i) of the Consolidated Farm and Rural Development Act (7 U.S.C. 1929). Under the program, Federal and State beginning farmer programs provide financial assistance to beginning farmers and ranchers;

(2) Methods of maximizing the number of new farming and ranching opportunities created through the program;

(3) Methods of encouraging States to participate in the program;

(4) The administration of the program; and

(5) Other methods of creating new farming or ranching opportunities.

The Committee meets at least once a year and all meetings are open to the public. The duration of the Committee is indefinite. Earlier meetings of the Committee, beginning in 1999, provided an opportunity for members to exchange ideas on ways to increase opportunities for beginning farmers and ranchers. Members discussed various issues and drafted numerous recommendations, which were provided to the Secretary.

Agenda items for the March, 2004 meetings include:

(1) The Beginning Farmer and Rancher Development Program, which was authorized by the Farm Security and Rural Investment Act of 2002 (Pub. L. 107-171) (2002 Farm Bill), but has not been funded, and the Extension Risk Management Education Program (both programs under the jurisdiction of USDA's Cooperative, State, Research, Education and Extension Service);

(2) Risk Management Education and Outreach Programs, along with crop insurance issues concerning participating insurance companies (under the jurisdiction of USDA's Risk Management Agency);

(3) Various beginning farmer and rancher conservation issues authorized by the 2002 Farm Bill (under the jurisdiction of USDA's Natural Resources Conservation Service);

(4) FSA's beginning farmer programs, borrower training program, and streamlining of forms and regulations; and

(5) The Kellogg Foundation's involvement in providing assistance to new immigrant and refugee farmers.

Attendance is open to all interested persons but limited to space available. Anyone wishing to make an oral statement should submit a request in writing (letter, fax, or e-mail) to Mark Falcone at the above address. Statements should be received no later than March 19, 2004. Requests should include the name and affiliation of the individual who will make the presentation and an outline of the issues to be addressed. The floor will be open to oral presentations beginning at 1:15 p.m. EST on March 24, 2004. Comments will be limited to 5 minutes, and presenters will be approved on a first-come, first-served basis.

Persons with disabilities who require special accommodations to attend or participate in the meetings should contact Mark Falcone by March 19, 2004.

Signed in Washington, DC, on March 2, 2004.
James R. Little,
Administrator, Farm Service Agency.

[FR Doc. 04-5495 Filed 3-10-04; 8:45 am]

BILLING CODE 3410-05-P